DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been removed from OFAC's Specially Designated Nationals and Blocked Persons List (SDN List) and the List of Foreign Sanctions Evaders (FSE List). Their property and interests in property are no longer blocked, and U.S. persons are no longer generally prohibited from engaging in transactions with them.

DATES: See SUPPLEMENTARY INFORMATION section for applicable date(s).

FOR FURTHER INFORMATION CONTACT: OFAC: Andrea Gacki, Director, tel.: 202-622-2480; Associate Director for Global Targeting, tel: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (www.treasury.gov/ofac).

Notice of OFAC Actions

On December 12, 2022, OFAC determined that the following persons, who had been designated pursuant to Executive Order 13582 of August 17, 2011, “Blocking Property of the Government of Syria and Prohibiting Certain Transactions With Respect to Syria” and sanctioned pursuant to Executive Order 13608 of May 1, 2012 “Prohibiting Certain Transactions With and Suspending Entry Into the United States of Foreign Sanctions Evaders With Respect to Iran and Syria, ” should be removed from the SDN List and FSE List, and that the property and interests in property subject to U.S. jurisdiction of the following persons are unblocked and lawful transactions involving U.S. persons are no longer prohibited.

Entity

1. RIXO INTERNATIONAL TRADING LTD., Lindenstrasse 2, Baar 6340, Switzerland; website http://www.rixointernational.com [SYRIA] [FSE-SY].

Individual

1. BEKTAS, Halis; DOB 13 Feb 1966; citizen Switzerland; Passport X0906223 (Switzerland) (individual) [SYRIA] [FSE-SY].

Dated: December 12, 2022.
Andrea M. Gacki,
Director, Office of Foreign Assets Control, U.S. Department of the Treasury.

[FR Doc. 2022-28440 Filed 12-29-22; 8:45 am]

BILLING CODE 4810-AL-P